DEPARTMENT OF HEALTH AND HUMAN SERVICES

Agency for Healthcare Research and Quality

Notice of Meetings

In accordance with section 10(d) of the Federal Advisory Committee Act as amended (5 U.S.C., Appendix 2), the Agency for Healthcare Research and Quality (AHRQ) announces meetings of scientific peer review groups. The subcommittees listed below are part of the Agency's Health Services Research Initial Review Group Committee.

The subcommittee meetings will be closed to the public in accordance with the Federal Advisory Committee Act, section 10(d) of 5 U.S.C., Appendix 2 and 5 U.S.C. 552b(c)(6). Grant applications are to be reviewed and discussed at these meetings. These discussions are likely to involve information concerning individuals associated with the applications, including assessments of their personal qualifications to conduct their proposed projects. This information is exempt from mandatory disclosure under the above-cited statutes.

1. Name of Subcommittee: Health Care Research Training.

Date: May 22-23, 2003 (Open from 8 a.m. to 8:15 a.m. on May 22 and closed for remainder of the meeting).

Place: Doubletree Hotel, 1750 Rockville Pike, Conference Room, TBD, Rockville, Maryland 20852.

2. Name of Subcommittee: Health Care Technology and Decision Sciences.

Date: June 5-6, 2003 (Open from 8 a.m. to 8:15 a.m. on June 5 and closed for remainder of the meeting).

Place: Doubletree Hotel, 1750 Rockville Pike, Conference Room, TBD, Rockville, Maryland 20852.

3. Name of Subcommittee: Health Systems Research.

Date: June 12-13, 2003 (Open from 8 a.m. to 8:15 a.m. on June 12 and closed for remainder of the meeting).

Place: Doubletree Hotel 1750 Rockville Pike, Conference Room, TDB, Rockville, Maryland 20852.

4. Name of Subcommittee: Health Research Dissemination and Implementation.

Date: June 16-17, 2003 (Open from 8 a.m. to 8:15 a.m. on June 16 and closed for remainder of the meeting).

Place: Doubletree Hotel, 1750 Rockville Pike, Conference Room, TBD, Rockville, Maryland 20852.

5. Name of Subcommittee: Health Care Quality and Effectiveness Research.

Date: June 19-20, 2003 (Open from 8 a.m. to 8:15 a.m. on June 19 and closed for remainder of the meeting).

Place: Doubletree Hotel, 1750 Rockville Pike, Conference Room, TBD, Rockville, Maryland 20852.

Contact Person: Anyone wishing to obtain a roster of members, agenda or minutes of the nonconfidential portions of the meetings should contact Mrs. Bonnie Campbell, Committee Management Officer, Office of Research Review, Education and Policy, AHRQ, 2101 East Jefferson Street, Suite 400, Rockville, Maryland 20852, Telephone (301) 594-1846.

Agenda items for these meetings are subject to change as priorities dictate.

Dated: April 3, 2003.
Carolyn M. Clancy,
Director.

[FR Doc. 03-9112 Filed 4-14-03; 8:45 am]

BILLING CODE 4160-90-M